DEPARTMENT OF THE TREASURY

Submission for OMB Review; Comment Request

May 17, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before June 23, 2010 to be assured of consideration.

Internal Revenue Service (IRS)

OMB Number: 1545-0007.

Type of Review: Extension without change of a currently approved collection.

Title: Forest Activities Schedule.

Form: T (Timber).

Abstract: Form T is filed by individuals and corporations to report income and deductions from the operation of a timber business. The IRS uses Form T to determine if the correct amounts of income and deductions are reported.

Respondents: Private Sector: Businesses or other for-profits.

Estimated Total Burden Hours: 446,208 hours.

OMB Number: 1545-0044.

Type of Review: Extension without change of a currently approved collection.

Title: Corporation Claim for Deduction for Consent Dividends.

Form: 973.

Abstract: Corporations file Form 973 to claim a deduction for dividends paid. If shareholders consent and IRS approves, the corporation may claim a deduction for dividends paid, which reduces the corporation's tax liability. IRS uses Form 973 to determine if shareholders have included the dividend in gross income.

Respondents: Private Sector: Businesses or other for-profits.

Estimated Total Burden Hours: 2,210 hours.

OMB Number: 1545-1813.

Type of Review: Extension without change of a currently approved collection.

Title: Form 1099-H, Health Coverage Tax Credit (HCTC) Advance Payments.

Form: 1099-H.

Abstract: Form 1099-H is used to report advance payments of health insurance premiums to qualified recipients for their use in computing the allowable health insurance credit on Form 8885.

Respondents: Private Sector: Businesses or other for-profits.

Estimated Total Burden Hours: 33,000 hours.

OMB Number: 1545-1981.

Type of Review: Extension without change of a currently approved collection.

Title: Alternative Fuel Vehicle Refueling Property Credit.

Form: 8911.

Abstract: IRC section 30C allows a credit for alternative fuel vehicle refueling property. Form 8911 will be used by taxpayers to claim the credit.

Respondents: Private Sector: Businesses or other for-profits.

Estimated Total Burden Hours: 3,715,083 hours.

OMB Number: 1545-2031.

Type of Review: Extension without change of a currently approved collection.

Title: Railroad Track Maintenance Credit (REG-142770-05).

Abstract: This document contains regulations that provide rules for claiming the railroad track maintenance credit under section 45G of the Internal Revenue Code for qualified railroad track maintenance expenditures paid or incurred by a Class II or Class III railroad and other eligible taxpayers during the taxable year. These regulations reflect changes to the law made by the American Jobs Creation Act of 2004 and the Gulf Opportunity Zone Act of 2005.

Respondents: Private Sector: Businesses or other for-profits.

Estimated Total Burden Hours: 1,375 hours.

OMB Number: 1545-2158.

Type of Review: Extension without change of a currently approved collection.

Title: Production Tax Credit for Refined Coal (Notice 2009-90).

Abstract: This notice sets forth interim guidance pending the issuance of regulations relating to the tax credit under § 45 of the Internal Revenue Code (Code) for refined coal.

Respondents: Private Sector: Businesses or other for-profits.

Estimated Total Burden Hours: 1,500 hours.

OMB Number: 1545-2159.

Type of Review: Extension without change of a currently approved collection.

Title: Form 56-F, Notice Concerning Fiduciary Relationship of Financial Institution.

Form: 56-F.

Abstract: The filing of Form 56-F by a fiduciary (FDIC or other Federal agency acting as a receiver or conservator of a failed financial institution (bank or thrift) gives the IRS the necessary information to submit send letters, notices, and notices of tax liability to the Federal fiduciary now in charge of the financial institution rather than sending the notice, etc. to the institution's last known address.

Respondents: Private Sector: Businesses or other for-profits.

Estimated Total Burden Hours: 997 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-12441 Filed 5-21-10; 8:45 am]

BILLING CODE 4830-01-P